DEPARTMENT OF COMMERCE

Foreign-Trade Zones Board

[S-27-2020]

Approval of Subzone Status; Warehouse Specialists, LLC, Council Bluffs, Iowa

On February 7, 2020, the Executive Secretary of the Foreign-Trade Zones (FTZ) Board docketed an application submitted by the Iowa Foreign Trade Zone Corporation, grantee of FTZ 107, requesting subzone status subject to the existing activation limit of FTZ 107, on behalf of Warehouse Specialists, LLC, in Council Bluffs, Iowa.

The application was processed in accordance with the FTZ Act and Regulations, including notice in the Federal Register inviting public comment (85 FR 7919, February 12, 2020). The FTZ staff examiner reviewed the application and determined that it meets the criteria for approval. Pursuant to the authority delegated to the FTZ Board Executive Secretary (15 CFR Sec. 400.36(f)), the application to establish Subzone 107D was approved on March 31, 2020, subject to the FTZ Act and the Board's regulations, including Section 400.13, and further subject to FTZ 107's 2,000-acre activation limit.

Dated: March 31, 2020.
Andrew McGilvray,
Executive Secretary.

[FR Doc. 2020-07191 Filed 4-6-20; 8:45 am]

BILLING CODE 3510-DS-P